DEPARTMENT OF COMMERCE

National Oceanic and Atmospheric Administration (NOAA)

Science Advisory Board

AGENCY: Office of Oceanic and Atmospheric Research, NOAA, DOC.

ACTION: Notice of Open Meeting.

SUMMARY: The Science Advisory Board (SAB) was established by a Decision Memorandum dated September 25, 1997, and is the only Federal Advisory Committee with responsibility to advise the Under Secretary of Commerce for Oceans and Atmosphere on long- and short-range strategies for research, education, and application of science to resource management. SAB activities and advice provide necessary input to ensure that National Oceanic and Atmospheric Administration (NOAA) science programs are of the highest quality and provide optimal support to resource management.

TIME AND DATE: The meeting will be held Tuesday, June 26, 2001, from 1 p.m. to 5 p.m.; Wednesday, June 27, 2001, from 8 a.m. to 5 p.m.; and Thursday, June 28, from 8 a.m. to 12:30 p.m.

ADDRESSES: The meeting on Tuesday, June 26 will be held at the National Marine Fisheries Service Laboratory, 110 Shaffer Road, Santa Cruz, CA. On Wednesday, June 27, and Thursday, June 28, the meeting will be held at the West Coast Santa Cruz Hotel, 175 West Cliff Drive, Santa Cruz, CA.

STATUS: The meeting will be open to public participation with four 15-minute time periods set aside for questions or direct verbal comments from the public on agenda items and two 30-minute periods for public statements on any NOAA-related subject. The SAB expects that public statements presented at its meetings will not be repetitive of previously submitted verbal or written statements. In general, each individual or group making a verbal presentation will be limited to a total time of five (5) minutes. Written comments (at least 35 copies) should be received in the SAB Executive Director's Office by June 18, 2001, in order to provide sufficient time for SAB review. Written comments received by the SAB Executive Director after June 18 will be distributed to the SAB, but many not be reviewed prior to the meeting date. Approximately thirty (30) sets will be available for the public including five (5) seats reserved for the media. Seats will be available on a first-come, first-served basis.

Matters to be Considered: The meeting will include the following topics: (1) Fisheries science in the NOAA line offices and their programs, (2) The role of academia and other partners in fisheries science, (3) Impediments to effective NMFS management and science practices, (4) Briefings on outcomes of NOAA Constituents Workshop, (5) Review of Department of Commerce's Aquaculture Guidelines, (6) Review and discussion of the Report of the Panel on Strategies for Climate Monitoring, (7) Public Input Sessions with SAB discussion, and (8) SAB Sub-Committee and Working Group Reports.

FOR FURTHER INFORMATION CONTACT: Dr. Michael Uhart, Executive Director, Science Advisory Board, NOAA, Rm. 10600, 1315 East-West Highway, Silver Spring, Maryland 20910. (Phone: 301-713-9121, E-mail: Michael.Uhart@noaa.gov); or visit the NOAA SAB website at http://www.sab.noaa.gov.

Dated: June 1, 2001.
Louisa Koch,
Deputy Assistant Administrator, Office of Oceanic and Atmospheric Research.

[FR Doc. 01-14265 Filed 6-5-01; 8:45 am]

BILLING CODE 3510-KD-M